DEPARTMENT OF EDUCATION

[Docket No.: ED-2021-SCC-0038]

Agency Information Collection Activities; Submission to the Office of Management and Budget for Review and Approval; Comment Request; Program for the International Assessment of Adult Competencies (PIAAC) Cycle II 2022 Operational Field Test

AGENCY: Institute of Education Sciences (IES), National Center for Education Statistics (NCES), Department of Education (ED).

ACTION: Notice.

SUMMARY: In accordance with the Paperwork Reduction Act of 1995, ED is proposing a revision of a currently approved information collection.

DATES: Interested persons are invited to submit comments on or before April 16, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, (202) 245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for the International Assessment of Adult Competencies (PIAAC) Cycle II 2022 Operational Field Test.

OMB Control Number: 1850-0870.

Type of Review: Revision of a currently approved information collection.

Respondents/Affected Public: Individuals or Households.

Total Estimated Number of Annual Responses: 1,250.

Total Estimated Number of Annual Burden Hours: 293.

Abstract: The Program for the International Assessment of Adult Competencies (PIAAC) is a cyclical, large-scale study of adult skills and life experiences focusing on education and employment. PIAAC is an international study designed to assess adults in different countries over a broad range of abilities, from simple reading to complex problem-solving skills, and to collect information on individuals' skill use and background. PIAAC is coordinated by the Organization for Economic Cooperation and Development (OECD) and developed by participating countries with the support of the OECD. In the United States, the National Center for Education Statistics (NCES), within the U.S. Department of Education (ED) conducts PIAAC. The U.S. participated in the PIAAC Main Study data collection in 2012 and conducted national supplement data collections in 2014 and 2017. All three of these collections are part of PIAAC Cycle I. A new PIAAC cycle is to be conducted every 10 years, and PIAAC Cycle II Main Study data collection will be conducted from August 2022 through March 2023. In preparation for the main study collection, PIAAC Cycle II begins with a Field Test in Spring of 2021 in which 33 countries will participate with the goal of evaluating newly developed assessment and questionnaire items and to test the operations for the PIAAC 2023 Main Study (2022-2023). PIAAC 2022 defines four core competency domains of adult cognitive skills deemed key to facilitating the social and economic participation of adults in advanced economies: (1) Literacy, (2) numeracy, (3) reading and numeracy components, and (4) adaptive problem solving. The U.S. will administer all four domains of the PIAAC 2022 assessment to a nationally representative sample of adults, along with a background questionnaire with questions about their education background, work history, the skills they use on the job and at home, their civic engagement, financial literacy and sense of their health and well-being. The results are used to compare the skills capacities of the workforce-aged adults in participating countries, and to learn more about relationships between educational background, employment, and other outcomes. The request to conduct the PIAAC Cycle II Field Test in April-June 2020 was approved by OMB in December 2019 (OMB# 1850-0870 v.7-8). As described in the previously approved amendment in September 2020 (OMB# 1850-0870 v.9), the 2020 PIAAC Cycle II Field Test, scheduled to begin in April 2020, was postponed due to the 2020 novel coronavirus (COVID-19) global pandemic. The OECD has delayed both the Field Test and Main Study by 12 months, meaning that the Field Test was due to be carried out in respondent homes beginning in April 2021. In recognition of the continued constraints that countries face in meeting the current Field Test goals and timeline during the continuing global pandemic, the OECD has relaxed the current field test standards to allow for a smaller Operational Field Test of survey implementation. Currently, none of the 13 areas of the U.S. in the PIAAC field test sample has low enough rates of new daily cases of COVID-19 for safe and productive field interviews. After several months of careful monitoring of new daily case rates and considering OECD guidance, NCES has elected to conduct an Operational Field Test. Therefore, this request updates the package to reflect the change to an Operational Field Test. Additionally, NCES has imposed new requirements on study nomenclature that require changes to the U.S. outreach and recruitment materials and program nomenclature in the instruments. The revisions made do include changes to respondent burden and the cost to the federal government.

Dated: March 11, 2021.
Stephanie Valentine,
PRA Coordinator, Strategic Collections and Clearance Governance and Strategy Division, Office of Chief Data Officer, Office of Planning, Evaluation and Policy Development.

[FR Doc. 2021-05452 Filed 3-16-21; 8:45 am]

BILLING CODE 4000-01-P